DEPARTMENT OF HOMELAND SECURITY

U.S. Customs and Border Protection

[Docket No. USCBP-2018-0034]

Commercial Customs Operations Advisory Committee (COAC)

AGENCY: U.S. Customs and Border Protection (CBP), Department of Homeland Security (DHS).

ACTION: Committee management; Notice of Federal Advisory Committee meeting.

SUMMARY: The Commercial Customs Operations Advisory Committee (COAC) will hold its quarterly meeting on Wednesday, October 3, 2018 in Washington, DC. The meeting will be open to the public.

DATES: The COAC will meet on Wednesday, October 3, 2018 from 1:00 p.m. to 5:00 p.m. EDT. Please note that the meeting may close early if the committee has completed its business.

ADDRESSES: The meeting will be held at the Dirksen Senate Office Building, 50 Constitution Avenue NE, Room SD-G50, Washington, DC 20002. For information on facilities or services for individuals with disabilities or to request special assistance at the meeting, contact Ms. Florence Constant-Gibson, Office of Trade Relations, U.S. Customs & Border Protection, at (202) 344-1440 as soon as possible.

Pre-Registration: Meeting participants may attend either in person or via webinar after pre-registering using one of the methods indicated below:

For members of the public who plan to attend the meeting in person, please register by 5:00 p.m. EDT October 2, 2018 either online at https://teregistration.cbp.gov/index.asp?w=140; by email to tradeevents@dhs.gov; or by fax to (202) 325-4290. You must register prior to the meeting in order to attend the meeting in person.

For members of the public who plan to participate via webinar, please register online at https://teregistration.cbp.gov/index.asp?w=139 by 5:00 p.m. EDT on October 2, 2018.

Please feel free to share this information with other interested members of your organization or association.

Members of the public who are pre-registered to attend via webinar and later need to cancel, please do so by October 2, 2018 utilizing the following links: https://teregistration.cbp.gov/cancel.asp?w=139 to cancel an in person registration or https://teregistration.cbp.gov/cancel.asp?w=140 to cancel a webinar registration.

To facilitate public participation, we are inviting public comment on the issues the committee will consider prior to the formulation of recommendations as listed in the Agenda section below.

Comments must be submitted in writing no later than October 2, 2018, and must be identified by Docket No. USCBP-2018-0034, and may be submitted by one (1) of the following methods:

• Federal eRulemaking Portal: http://www.regulations.gov. Follow the instructions for submitting comments.

• Email: tradeevents@dhs.gov. Include the docket number in the subject line of the message.

• Fax: (202) 325-4290, Attention: Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2018-0034) for this action. Comments received will be posted without alteration at http://www.regulations.gov. Please do not submit personal information to this docket.

Docket: For access to the docket or to read background documents or comments, go to http://www.regulations.gov and search for Docket Number USCBP-2018-0034. To submit a comment, click the “Comment Now!” button located on the top-right hand side of the docket page.

There will be multiple public comment periods held during the meeting on October 3, 2018. Speakers are requested to limit their comments to two (2) minutes or less to facilitate greater participation. Contact the individual listed below to register as a speaker. Please note that the public comment period for speakers may end before the time indicated on the schedule that is posted on the CBP web page, http://www.cbp.gov/trade/stakeholder-engagement/coac.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Mr. Bradley Hayes, Executive Director and Designated Federal Officer at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The Designated Federal Officer will announce how the COAC subcommittees will be re-organized to align with CBP's trade strategic priorities and outline how the current and future COAC activities will be structured within each subcommittee. The COAC will hear from the current subcommittees on the topics listed below and then will review, deliberate, provide observations, and formulate recommendations on how to proceed:

1. The Trusted Trader Subcommittee will present an update on CTPAT Minimum Security Criteria work and its socialization period. The subcommittee will also provide an update on the Forced Labor Strategy for CTPAT Trade Compliance and the CBP lead will report on the progress of the Trusted Trader Pilot.

2. The Trade Enforcement & Revenue Collection (TERC) Subcommittee will provide necessary updates from the Anti-Dumping and Countervailing Duty, Bond, Forced Labor and Intellectual Property Rights Working Groups.

3. The COAC Trade Modernization Subcommittee will discuss the E-Commerce Working Group's progress in addressing CBP's strategic plan regarding e-commerce threats and opportunities to both the government and trade and in light of the World Customs Organization's global framework. The Regulatory Reform Working Group will provide an overview of work accomplished in reviewing the regulations contained in Title 19 of the Code of Federal Regulations to reduce regulatory burdens and costs. The Foreign Trade Zone Working Group will present recommendations regarding the updating of 19 CFR part 146, the Foreign Trade Zone Regulations. They will also discuss a proposed revision to 19 CFR part 146 that began in 2015 and was referred to the working group for further input.

4. The Global Supply Chain Subcommittee will provide a status update on the following work group activities: Piloting the use of the Automated Commercial Environment (ACE) to electronically report and manage petroleum moving in-bond via pipeline; the Emerging Technologies Working Group's work on NAFTA/CAFTA and the Intellectual Property Rights Blockchain Proof of Concept projects; and the In-bond Working Group's review of the draft Automated In-Bond Business Process document; as well as potential automation, visibility, system issues and policy/regulatory updates.

Meeting materials will be available by October 1, 2018 at: http://www.cbp.gov/trade/stakeholder-engagement/coac/coac-public-meetings.

Dated: September 5, 2018.
Bradley F. Hayes,
Executive Director, Office of Trade Relations.

[FR Doc. 2018-19614 Filed 9-7-18; 8:45 am]

BILLING CODE 9111-14-P